DEPARTMENT OF JUSTICE

[OMB Number 1121-0313]

Office of the Associate Attorney General; Agency Information Collection Activities: Proposed Collection; Comments Requested

ACTION: 60-Day Notice of Information Collection Under Review: Mandatory Case Reporting Form For the Internet Crimes Against Children Task Forces.

The Department of Justice will be submitting the following information collection request to the Office of Management and Budget (OMB) for review and clearance in accordance with review procedures of the Paperwork Reduction Act of 1995. The proposed information collection is published to obtain comments from the public and affected agencies. Comments should be directed to OMB, Office of Information and Regulation Affairs, Attention: Department of Justice Desk Officer, Washington, DC 20503. Comments are encouraged and will be accepted for 60 days until September 24, 2007.

During the first 60 days of this same review period, a regular review of this information collection is also being undertaken. All comments and suggestions, or questions regarding additional information, to include obtaining a copy of the proposed information collection instrument with instructions, should be directed to Currie Gunn, Office of the Associate Attorney General, Department of Justice, 950 Pennsylvania Ave, NW., Washington DC 20530, or facsimile (202) 514-0238.

Written comments and suggestions from the public and affected agencies concerning the proposed collection of information are encouraged. Your comments should address one or more of the following four points:

—Evaluate whether the proposed collection of information is necessary for the proper performance of the functions of the agency, including whether the information will have practical utility;

—Evaluate the accuracy of the agencies estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of this information:

(1) Type of information collection: New Collection.

(2) The title of the form/collection: Case Reporting Form For the Internet Crimes Against Children Task Forces.

(3) The agency form number, if any, and the applicable component of the department sponsoring the collection: Form Number: none. Office of the Associate Attorney General, Department of Justice.

(4) Affected public who will be asked or required to respond, as well as a brief abstract: Primary: Internet Crimes Against Children Task Forces receiving over $20,000 in federal grants. Other: none. The grants to ICACs were authorized to make funds available to help State and local law enforcement agencies enhance their investigative response to offenders who use the Internet, online communication systems, or other computer technology to sexually exploit children.

(5) An estimate of the total number of respondents and the amount of time estimated for an average respondent to respond/reply: It is estimated that 45 respondents will complete the application in approximately 180 minutes.

(6) An estimate of the total public burden (in hours) associated with the collection: The estimated total annual public burden associated with this application is 135 hours.

If additional information is required contact: Lynn Bryant, Department Clearance Officer, United States Department of Justice, Justice Management Division, Policy and Planning Staff, Patrick Henry Building, Suite 1600, 601 D Street, NW., Washington, DC 20530.

Dated: July 18, 2007.
Lynn Bryant,
Department Clearance Officer, PRA, U.S. Department of Justice.

[FR Doc. E7-14246 Filed 7-23-07; 8:45 am]

BILLING CODE 4410-21-P